DEPARTMENT OF HEALTH AND HUMAN SERVICES

National Institutes of Health

National Cancer Institute; Amended Notice of Meeting

Notice is hereby given of a change in the meeting of the National Cancer Institute Special Emphasis Panel, June 8, 2004, 6:30 p.m. to June 10, 2004, 2 p.m. Hamilton Crowne Plaza Hotel, 14th & K Streets NW., Washington, DC 20005 which was published in the Federal Register on March 15, 2004, 69 FR 12166.

This meeting is amended to change the starting time on 06/08/04 to 8 a.m. The meeting is closed to the public.

Dated: March 31, 2004.
LaVerne Y. Stringfield,
Director, Office of Federal Advisory Committee Policy.

[FR Doc. 04-7832 Filed 4-6-04; 8:45 am]

BILLING CODE 4140-01-M